DEPARTMENT OF HEALTH AND HUMAN SERVICES

National Institutes of Health

Submission for Proposed Collection; Comment Request; The Effectiveness of the NIH Curriculum Supplements and Workshops Survey

SUMMARY: In compliance with the requirements of section 3506(c)(2)(A) of the Paperwork Reduction Act of 1995, for opportunity for public comment on proposed data collection projects, the Office of Science Education, the National Institutes of Health (NIH) will publish periodic summaries of proposed projects to be submitted to the Office of Management and Budget (OMB) for review and approval.

Proposed Collection: Title: The Effectiveness of the NIH Curriculum Supplements and Workshops Survey. Information Collection Request: New. Need and Use of Information Collection: The survey will attempt to assess the effectiveness of the NIH curriculum supplements in aiding teachers to teach science in a more engaging and interactive way. The supplements help k-12 educators teach science in more engaging and effective ways by featuring the latest NIH research. A typical supplement contains two weeks of student activities on the science behind a health topic, such as cancer, sleep or obesity. Web-based simulations, animations and experiments enhance the “pencil and paper” activities. In addition to developing and distributing the supplements, OSE conducts professional workshops to help teachers successfully implement these lessons with their students. Since January 2000, over 3,000 teachers have attended an OSE workshop.

Assessing the effectiveness of the NIH Curriculum Supplements and teacher workshops is critical to determining if OSE is successfully fulfilling its mission. OSE has the database infrastructure in place to easily collect customer satisfaction data from supplement requesters and workshop attendees. At present, we do not have clearance to contact our customers to determine how NIH resources are meeting their educational needs.

Burden Table
Type of respondent | Number of respondents | Frequency of response | Average time per response | Annual hour burden
Focus Group Teachers | 60 | 1 | 2.0 | 120
Workshop Teachers: Initial Survey | 350 | 1 | 0.083 | 29
Workshop Teachers: In-Depth Survey | 50 | 1 | 0.5 | 25
Totals | 460 |  |  | 174

Request for Comments: Written comments and/or suggestions from the public and affected agencies are invited on one or more of the following points: (1) Whether the proposed collection of information is necessary for the proper performance of the function of the agency, including whether the information will have practical utility; (2) ways to enhance the quality, utility, and clarity of the information to be collected; and (3) ways to minimize the burden of the collection of information on those who are to respond, including the use of appropriate automated, electronic, mechanical, or other technological collection techniques or other forms of information technology.

Direct Comments to NIH: Written comments and/or suggestions regarding the item(s) contained in this notice should be directed to the: Office of Science Education, National Institutes of Health, 6705 Rockledge Drive, Suite 700, Bethesda, MD 20817, Attention: Cassandra Isom. To request more information on the proposed project or to obtain a copy of the data collection plans and survey, contact: Dr. David Vannier, Office of Science Education, 6705 Rockledge Drive, Suite 700, Bethesda, MD 20817, or call 301-496-8741, or e-mail your request including your address to: vannierd@od.nih.gov.

Comments Due Date: Comments regarding this information collection are best assured of having their full effect if received within 60 days of the date of this publication.

Dated: March 11, 2005.
Cassandra Isom,
Program Administrator, Office of Science Education, National Institutes of Health.

[FR Doc. 05-5472 Filed 3-18-05; 8:45 am]

BILLING CODE 4140-01-M